DEPARTMENT OF HEALTH AND HUMAN SERVICES

Health Resources and Services Administration

Notice of Fiscal Year 2023 Health Center Program COVID-19 HHS Bridge Access Program Funding Awards

AGENCY: Health Resources and Services Administration (HRSA), Department of Health and Human Services (HHS).

ACTION: Notice of funding awards.

SUMMARY: In support of the HHS Bridge Access Program for COVID-19 Vaccines and Treatments, HRSA provided more than $81 million in one-time funding to all current Health Center Program operational (H80) award recipients and to health center look-alikes that previously received American Rescue Plan funding (L2C awards).

FOR FURTHER INFORMATION CONTACT: Olivia Shockey, Expansion Division Director, HRSA, at oshockey@hrsa.gov and (301) 594-4300.

SUPPLEMENTARY INFORMATION:

Intended Recipient of the Award: The total amount of funding, number of awards, and award recipients can be found here: https://bphc.hrsa.gov/funding/coronavirus-related-funding/covid-19-bridge-funding/fy-2023-awards.

Project Period: September 1, 2023—December 31, 2024.

CFDA Number: 93.527.

Authority: Section 2401 of the American Rescue Plan Act of 2021, Public Law 117-2.

Justification: The end of the declared COVID-19 Public Health Emergency and associated transition to commercial access to vaccines and therapeutics impacts the capacity of health centers to maintain essential COVID-19 related services for their patients, including but not limited to health center patients who lack health insurance. Health centers will use one-time Bridge funding to support uninsured and underinsured patients and residents of their communities with needs such as COVID-19 vaccination and therapeutics, enabling/patient support services (such as outreach, education, enrollment assistance, transportation, translation, and care coordination) to support COVID-19 related services; community COVID-19 vaccination events; and, supplies and personnel who support COVID-19 related services and care delivery, including personnel costs necessary to develop, support, or expand collaborations, including collaborations with state/jurisdiction immunization programs. Recipients will submit data on program activities through the HRSA Health Center COVID-19 survey as required, as well as periodic progress reports.

Carole Johnson,
Administrator.

[FR Doc. 2023-22751 Filed 10-13-23; 8:45 am]

BILLING CODE 4165-15-P